DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners of any other person showing a substantial interest in the subject matter of the investigations may request a public hearing, provided such request is filed in writing with the Director, Division of Trade Adjustment Assistance, at the address shown below, not later than April 14, 2003.

Interested persons are invited to submit written comments regarding the subject matter of the investigations to the Director, Division of Trade Adjustment Assistance, at the address shown below, not later than April 14, 2003.

The petitions filed in this case are available for inspection at the Office of the Director, Division of Trade Adjustment Assistance, Employment and Training Administration, U.S. Department of Labor, Room C-5311 , 200 Constitution Avenue, NW., Washington, DC 20210.

Signed at Washington, DC this 14th day of March 2003.
Edward A. Tomchick,
Director, Division of Trade Adjustment Assistance.

Appendix
[Petitions instituted between 03/03/2003 and 03/07/2003]
TA-W | Subject firm (petitioners) | Location | Date of institution | Date of petition
51,026 | American Tool Companies, Inc. (Comp) | Cumberland, WI | 03/03/2003 | 02/25/2003
51,027 | Crescent Lighting (NJ) | Bannington, NJ | 03/03/2003 | 02/28/2003
51,028 | Pliant Corporation (CA) | Merced, CA | 03/03/2003 | 01/06/2003
51,029 | Vinonics, Inc. (Wkrs) | Fort Worth, TX | 03/03/2003 | 02/27/2003
51,030 | ESCO Corporation (Comp) | Danville, IL | 03/03/2003 | 02/24/2003
51,031 | National Presto Industries, Inc. (Comp) | Eau Claire, WI | 03/03/2003 | 02/24/2003
51,032 | Wheeling-Pittsburgh Steel Corp. (Comp) | Allenport, PA | 03/03/2003 | 02/14/2003
51,033 | F/V R.D. and J (Comp) | Pilot Point, AK | 03/03/2003 | 02/27/2003
51,034 | F/V Tianna Sea (Comp) | Port Heiden, AK | 03/03/2003 | 02/27/2003
51,035 | F/V Michelle Dawn (Comp) | Pilot Point, AK | 03/03/2003 | 02/27/2003
51,036 | F/V White Eagle (Comp) | Pilot Point, AK | 03/03/2003 | 02/27/2003
51,037 | Jabil Global Services (Comp) | Tampa, FL | 03/04/2003 | 02/27/2003
51,038 | Tubertronics (KS) | Wichita, KS | 03/04/2003 | 03/03/2003
51,039 | Calvin Klein, Ltd. (UNITE) | New York, NY | 03/04/2003 | 03/03/2003
51,040 | Emcee Broadcast Products (Wkrs) | White Haven, PA | 03/04/2003 | 03/03/2003
51,041 | Yoshida Group (Wkrs) | Portland, OR | 03/04/2003 | 03/07/2003
51,042 | Micron Technologies, Inc. (Wkrs) | Boise, ID | 03/04/2003 | 02/21/2003
51,043 | Mount Vernon (CA) | Fresno, CA | 03/04/2003 | 02/28/2003
51,044 | Greenlee (Wkrs) | Fairmont, MN | 03/04/2003 | 03/03/2003
51,045 | Precision Cast Parts (Wkrs) | Portland, OR | 03/04/2003 | 02/12/2003
51,046 | Western Geco (Wkrs) | Denver, CO | 03/04/2003 | 02/23/2003
51,047 | Search Resources (MN) | Grand Rapids, MN | 03/04/2003 | 03/03/2003
51,048 | Kayser-Roth Corporation (Comp) | Creedmoor, NC | 03/04/2003 | 02/27/2003
51,049 | Raytheon Aircraft Co. (KS) | Wichita, KS | 03/04/2003 | 03/03/2003
51,050 | JJA, Inc. (NH) | Hampstead, NH | 03/04/2003 | 03/03/2003
51,051 | Carbone Kirkwood LLC (Comp) | Cleveland, OH | 03/04/2003 | 03/03/2003
51,052 | Leggett and Platt, Inc. (Comp) | Fremont, IN | 03/04/2003 | 02/28/2003
51,053 | Eastman Kodak (Wkrs) | Oakdale, MN | 03/04/2003 | 02/28/2003
51,054 | Sonic Blue (Wkrs) | Santa Clara, CA | 03/04/2003 | 02/17/2003
51,055 | F/V Miss Adube (Comp) | Manokotak, AK | 03/04/2003 | 03/03/2003
51,056 | F/V Mariam (Comp) | Dillingham, AK | 03/04/2003 | 03/03/2003
51,057 | Fishing Vessel (F/V) Bucko (Comp) | Dillingham, AK | 03/04/2003 | 03/03/2003
51,058 | F/V Kasandra Faye (Comp) | Aleknagik, AK | 03/04/2003 | 03/03/2003
51,059 | F/V Kathy Ann (Comp) | Dillingham, AK | 03/04/2003 | 03/03/2003
51,060 | F/V Jeweline M (Comp) | Manokotak, AK | 03/04/2003 | 03/03/2003
51,061 | Fishing Vessel (F/V) Pauline Marie (Comp) | Manakotak, AK | 03/04/2003 | 03/03/2003
51,062 | Ethan Allen, Inc. (Comp) | Dudley, MA | 03/05/2003 | 02/25/2003
51,063 | Ingersoll—Rand (CO) | Colorado Spring, CO | 03/05/2003 | 02/10/2003
51,064 | Dynamet, Inc. (Wkrs) | Washington, PA | 03/05/2003 | 01/17/2003
51,065 | GE Interlogix (Comp) | N. St. Paul, MN | 03/05/2003 | 03/04/2003
51,066 | KOMAG, Inc. (CA) | Santa Rosa, CA | 03/05/2003 | 01/14/2003
51,067 | TRW Automotive (Comp) | Greenville, NC | 03/05/2003 | 03/04/2003
51,068 | JJM, Ltd. (Comp) | Corvallis, OR | 03/05/2003 | 03/03/2003
51,069 | Mickon Technology Inc. (Wkrs) | Lehi, UT | 03/05/2003 | 03/03/2003
51,070 | New World Pasta (Comp) | Lousiville, KY | 03/05/2003 | 02/27/2003
51,071 | Nova Chemicals, Inc. (Wkrs) | Moon Township, PA | 03/05/2003 | 03/05/2003
51,072 | Set Net (Comp) | Dillingham, AK | 03/05/2003 | 03/04/2003
51,073 | 3M—HIS (Wkrs) | Wellingford, CT | 03/06/2003 | 02/26/2003
51,074 | Elliott Turbomachinery Co., Inc. (Comp) | Jeannette, PA | 03/06/2003 | 02/21/2003
51,075 | Philips Semiconductor (Comp) | San Antonio, TX | 03/06/2003 | 03/03/2003
51,076 | Key Plastics (Wkrs) | Chesterfield, MI | 03/06/2003 | 02/24/2003
51,077 | Advanced Technology Services, Inc. (Comp) | Mt. Clemens, MI | 03/06/2003 | 02/28/2003
51,078 | Adecco Staffing Services (MN) | Rochester, MN | 03/06/2003 | 03/05/2003
51,079 | Atlantic Precision Products (Wkrs) | Sanford, ME | 03/06/2003 | 02/28/2003
51,080 | H and L Tool Co. (Comp) | Erie, PA | 03/06/2003 | 03/05/2003
51,081 | Plexus Corporation (Comp) | Bothell, WA | 03/06/2003 | 02/24/2003
51,082 | Center Partners (Wkrs) | Yukon, OK | 03/06/2003 | 03/03/2003
51,083 | Fernbrook & Company (UNITE) | Palmerton, PA | 03/06/2003 | 03/06/2003
51,084 | Gilinsky Logging, Inc. (Comp) | Rogue River, OR | 03/06/2003 | 03/01/2003
51,085 | Fluor Daniel (Wkrs) | Rochester, MN | 03/06/2003 | 01/03/2003
51,086 | F/V Golda June (Comp) | Dillingham, AK | 03/06/2003 | 03/05/2003
51,087 | Wacker (OR) | Portland, OR | 03/07/2003 | 03/06/2003
51,088 | Farley Sathers Confections (Wkrs) | Brooklyn, NY | 03/07/2003 | 02/26/2003
51,089 | Fairweather E and P (Wkrs) | Anchorage, AK | 03/07/2003 | 02/04/2003
51,090 | Liberty West (OR) | Wilsonville, OR | 03/07/2003 | 01/10/2003
51,091 | Ingersoll Products Company (Comp) | Chicago, IL | 03/07/2003 | 02/27/2003
51,092 | Adecco, N. American, LLC (Wkrs) | Ft. Worth, TX | 03/07/2003 | 02/20/2003
51,093 | Mitten Manufacturing (Comp) | Syracuse, NY | 03/07/2003 | 02/27/2003
51,094 | Quebecor World Kingsport, Inc. (USWA) | Franlkin, TN | 03/07/2003 | 02/28/2003
51,095 | HMX Tailored (UNITE) | Buffalo, NY | 03/07/2003 | 02/21/2003
51,096 | DCB Corporation (Comp) | Madisonville, TN | 03/07/2003 | 02/26/2003
51,097 | Webb Triax Company (The) (IBT) | Chardon, OH | 03/07/2003 | 02/20/2003
51,098 | Colonial Tanning Corporation (UNITE) | Gloversville, NY | 03/07/2003 | 02/25/2003

[FR Doc. 03-7891 Filed 4-1-03; 8:45 am]

BILLING CODE 4510-30-M